DEPARTMENT OF COMMERCE

National Oceanic and Atmospheric Administration

RIN 0648-XB16

Marine Mammals; File No. 814-1899

AGENCY: National Marine Fisheries Service (NMFS), National Oceanic and Atmospheric Administration (NOAA), Commerce.

ACTION: Notice; issuance of permit amendment.

SUMMARY: Notice is hereby given that the North Slope Borough Department of Wildlife Management, P.O. Box 69, Barrow, AK 99723 [Taqulik Hepa, Responsible Party; Dr. John C. George, Principal Investigator], has been issued a minor amendment to Scientific Research Permit No. 814-1899.

ADDRESSES: The amendment and related documents are available for review upon written request or by appointment in the following offices:

Permits and Conservation Division, Office of Protected Resources, NMFS, 1315 East-West Highway, Room 13705, Silver Spring, MD 20910; phone (301) 427-8401; fax (301) 713-0376; and

Alaska Region, NMFS, P.O. Box 21668, Juneau, AK 99802-1668; phone (907) 586-7221; fax (907) 586-7249.

FOR FURTHER INFORMATION CONTACT: Laura Morse or Amy Sloan, (301) 427-8401.

SUPPLEMENTARY INFORMATION: The requested amendment has been granted under the authority of the Marine Mammal Protection Act of 1972, as amended (16 U.S.C. 1361 et seq.), the regulations governing the taking and importing of marine mammals (50 CFR part 216), the Endangered Species Act of 1973, as amended (ESA; 16 U.S.C. 1531 et seq.), and the regulations governing the taking, importing, and exporting of endangered and threatened species (50 CFR parts 222-226).

The original permit (No. 814-1899), issued on July 18, 2007 (72 FR 40285), authorized the collection and receipt of parts from subsistence caught bearded seal (Erignathus barbatus), ringed seal (Phoca hispida), spotted seal (Phoca larga), ribbon seal (Phoca fasciata), bowhead whale (Balaena mysticetus), beluga whale (Delphinapterus leucas), minke whale (Balaenoptera acutorostrata), and grey whale (Eschrichtius robustus) in Alaska for the purposes of health related analyses through July 1, 2012. The minor amendment (No. 814-1899-04) extends the duration of the permit through July 1, 2013. No other terms or conditions of the permit changed as a result of this amendment.

Dated: June 14, 2012.
P. Michael Payne,
Chief, Permits and Conservation Division, Office of Protected Resources, National Marine Fisheries Service.

[FR Doc. 2012-15103 Filed 6-19-12; 8:45 am]

BILLING CODE 3510-22-P